OFFICE OF PERSONNEL MANAGEMENT

Excepted Service

AGENCY: Office of Personnel Management.

ACTION: Notice.

SUMMARY: This gives notice of positions placed or revoked under Schedules A and B in the excepted service, as required by Civil Service Rule VI, Exceptions from the Competitive Service.

FOR FURTHER INFORMATION CONTACT: Janice Reid, Staffing Policy Division, Employment Service (202) 606-0830.

SUPPLEMENTARY INFORMATION: The Office of Personnel Management publishes this monthly notice to update appointing authorities established or revoked under the Excepted Service provisions of 5 CFR 213. Individual authorities established or revoked under Schedules A and B between August 1, 2000, and August 31, 2000, appear in the following listing. A consolidated listing of all authorities as of June 30 is published annually.

Schedule A

No Schedule A authorities were established or revoked during August 2000.

Schedule B

The following Schedule B authority was amended effective August 17, 2000.

Schedule B 213.3209

“(a) Not to exceed six interdisciplinary positions for the Airpower Research Institute at the Air University, Maxwell Air Force Base, Alabama, for employment to complete studies proposed by candidates and acceptable to the Air Force. Initial appointments are made not to exceed 3 years, with an option to renew or extend the appointments in increments of 1, 2, or 3 years indefinitely thereafter.”

Authority: 5 U.S.C. 3301 and 3302; E.O. 10577, 3 CFR 1954-1958 Comp., P.218.

Office of Personnel Management.
Janice R. Lachance,
Director.

[FR Doc. 00-25443 Filed 10-3-00; 8:45 am]

BILLING CODE 6325-01-M